DEPARTMENT OF LABOR

Employment and Training Administration

[NAFTA-3721]

Rockwell Automation; Sheet Metal Fabrication Department; Euclid Plant; Euclid, Ohio; Notice of Revised Determination on Reopening

By letter of July 28, 2000, Local 737 of the International Union of Electronic, Electrical, Salaried, Machine and Furniture Workers, AFL-CIO (IUE), request administrative reconsideration of the Department's Negative Determination Regarding Eligibility To Apply for NAFTA-Transitional Adjustment Assistance (NAFTA-TAA) applicable to workers and former workers of Rockwell Automation, Euclid Plant, Euclid, Ohio. The denial was issued on July 17, 2000, and was published in the Federal Register on August 1, 2000 (65 FR 46954).

The IUE Local 737 presents evidence that the shift in production to Canada of the housing (cabinets) produced by workers in the Sheet Metal Fabrication Department, occurred in the early part of 1999, not 1998 as indicated in the Department's negative determination for the Rockwell Automation petition. Therefore, worker separations occurred within one year of the date of the petition.

At the subject firm's Euclid, Ohio plant, the workers in the Sheet Metal Fabrication Department are separately identifiable from those workers at the plant engaged in employment related to wiring and testing of the final product, control cabinets.

Conclusion

After careful consideration of the new facts obtained on reopening, it is concluded that the workers of Rockwell Automation, Sheet Metal Fabrication Department, Euclid Plant, Euclid, Ohio, were adversely affected by the shift in production of sheet metal cabinets to Canada. In accordance with the provisions of the Trade Act of 1974, I make the following revised determination:

“All workers of Rockwell Automation, Sheet Metal Fabrication Department, Euclid Plant, Euclid, Ohio, engaged in employment related to the production of sheet metal cabinets, who became totally or partially separated from employment on or after February 4, 1999, through two years from the date of certification, are eligible to apply for NAFTA-TAA under Section 250 of the Trade Act of 1974.”

Signed at Washington, D.C. this 30th day of August 2000.
Edward A. Tomchick,
Director, Division of Trade Adjustment Assistance.

[FR Doc. 00-23345 Filed 9-11-00; 8:45 am]

BILLING CODE 4510-30-M